SMALL BUSINESS ADMINISTRATION

[Declaration of Disaster #3249]

State of Alabama

Calhoun and Jefferson Counties and the contiguous counties of Bibb, Blount, Cherokee, Cleburne, Etowah, St. Clair, Shelby, Talladega, Tuscaloosa, and Walker in the State of Alabama constitute a disaster area due to damages caused by severe storms and tornadoes that occurred on April 2-3, 2000. Applications for loans for physical damage as a result of this disaster may be filed until the close of business on June 12, 2000 and for economic injury until the close of business on January 16, 2001 at the address listed below or other locally announced locations: U.S. Small Business Administration, Disaster Area 2 Office, One Baltimore Place, Suite 300, Atlanta, GA 30308.

The interest rates are:

| Percent
For Physical Damage:
Homeowners with credit available elsewhere | 7.625
Homeowners without credit available elsewhere | 3.812
Businesses with credit available elsewhere | 8.000
Businesses and non-profit organizations without credit available elsewhere | 4.000
Others (including non-profit organizations) with credit available elsewhere | 6.750
For Economic Injury
Businesses and small agricultural cooperatives without credit available elsewhere | 4.000

The numbers assigned to this disaster are 324912 for physical damage and 9H0800 for economic injury.

(Catalog of Federal Domestic Assistance Program Nos. 59002 and 59008)

Dated: April 13, 2000.
Aida Alvarez,
Administrator.

[FR Doc. 00-10021 Filed 4-20-00; 8:45 am]

BILLING CODE 8025-01-P